DEPARTMENT OF DEFENSE

Department of the Navy

Notice of Extension of Public Comment Period for the Draft Environmental Impact Statement for the Undersea Warfare Training Range (USWTR)

AGENCY: Department of Navy, DoD.

ACTION: Notice.

SUMMARY: Under the National Environmental Policy Act, the U.S. Environmental Protection Agency published an amended notice of availability in the Federal Register, 70 FR 67166 on November 4, 2005, for the Draft Environmental Impact Statement (Draft EIS) for the Department of the Navy's Undersea Warfare Training Range (USWTR), Installation and Operation, Preferred Site (in the Cherry Point Operating Area) and the Alternate Sites (within the Virginia Capes and Jacksonville Operating Areas), NC, VA, and FL (EIS No. 20050446). This notice announces the extension of the public comment period from December 28, 2005 to January 30, 2006.

DATES: Comments must be postmarked or received via fax not later than January 30, 2006 to ensure they become part of the official record.

FOR FURTHER INFORMATION CONTACT: Mr. Keith Jenkins, Naval Facilities Engineering Command Atlantic, 757-322-4046.

SUPPLEMENTARY INFORMATION: Comments on the USWTR Draft EIS should be addressed to Mr. Keith Jenkins, Naval Facilities Engineering Command Atlantic, (Code EV21KJ), 6506 Hampton Boulevard, Norfolk, VA 23508-1278; Fax 757-322-4894. All comments will be addressed in the Final EIS.

An electronic copy of the Draft EIS, as well as further information on USWTR, is available on the Internet at http://projects.earthtech.com/uswtr.

Dated: December 21, 2005.
S.K. Melancon,
Paralegal Specialist, Office of the Judge Advocate General, Alternate Federal Register Liaison Officer.

[FR Doc. E5-7943 Filed 12-27-05; 8:45 am]

BILLING CODE 3810-FF-P